ENVIRONMENTAL PROTECTION AGENCY

[OPP-34171B; FRL-6770-9]

Ethyl Parathion; Receipt of Request For Registration Cancellations and Amendments

AGENCY: Environmental Protection Agency (EPA).

ACTION: Notice.

SUMMARY: In accordance with section 6(f)(1) of the Federal Insecticide, Fungicide, and Rodenticide Act (FIFRA), as amended, EPA is issuing a notice of receipt of request by a number of registrants, including Cheminova, Inc. and Cheminova A/S, for the following actions: to immediately cancel the registrations for their manufacturing use products containing O, O-Diethyl-O-p-nitrophenyl thiophosphate (ethyl parathion), to immediately cancel the use on corn grown for seed by amending their ethyl parathion end-use product registrations; and to cancel all of their ethyl parathion end-use products effective as of December 31, 2002. EPA will decide whether to approve the requests after consideration of public comment.

DATE: Comments on the requested cancellation of product and use registrations must be submitted to the address provided below by June 1, 2001.

FOR FURTHER INFORMATION CONTACT: Laura Parsons, Special Review and Reregistration Division (7508C), Office of Pesticide Programs, Environmental Protection Agency, 1200 Pennsylvania Ave., NW., Washington, DC 20460; telephone number: (703) 305-5776; fax number: (703) 308-7042; e-mail address: parsons.laura@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules” and then look up the entry for this document under the Federal Register—Environmental Documents. You can also go directly to the Federal Register listings at http://www.epa.gov/fedrgstr/. To access information about the risk assessment for ethyl parathion, go to the Home Page for the Office of Pesticide Programs or go directly http://www.epa.gov/pesticides/op/ethylparathion.htm.

2. In person. The Agency has established an official record for this action under docket control number OPP-34171B. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-34171B in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-34171B. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Registrants Request to Cancel Product and Use Registrations

A. Background Information

Ethyl parathion is an organophosphate insecticide/miticide currently registered for use on alfalfa, barley, corn, cotton, canola, sorghum, soybean, sunflower, and wheat crops. In 1991, EPA and the registrants reached an agreement that limited ethyl parathion use to these nine current crop sites, and restricted application and post-application practices to mitigate extreme acute toxicity risks to workers. As a result, to protect workers, ethyl parathion may only be handled by trained, certified applicators using closed mixing and loading systems, may only be applied aerially, and crops treated with the pesticide may only be harvested mechanically.

Even with the post 1991 use restrictions, EPA's revised risk assessment completed in September, 1999 showed high levels of worker and ecological risk from legal uses of ethyl parathion. There were also several unfulfilled data requirements. After viewing the revised risk assessment and outstanding data requirements, Cheminova, Inc. and Cheminova, A/S and EPA signed a memorandum of agreement (MOA) effective October 10, 2000. In accordance with this MOA, Cheminova, Inc. and Cheminova, A/S have requested to amend their end-use products registrations to immediately terminate the use on corn grown for seed which can result in higher exposures to workers and have requested voluntary cancellation of all their ethyl parathion registrations. Some other companies holding registrations for ethyl parathion products have also written letters to the EPA requesting voluntary cancellation of all their ethyl parathion products.

B. Requests for Voluntary Cancellation

Registrants have requested voluntary cancellation of all their ethyl parathion registrations either by signing a MOA or by letter to the Agency. Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation. In addition, section 6(f)(1)(C) of FIFRA requires that EPA provide a 180-day comment period on a request for voluntary termination of any minor agricultural use before granting the request, unless (1) the registrants request a waiver of the comment period, or (2) the Administrator determines that continued use of the pesticide would pose an unreasonable adverse effect on the environment. The registrant has requested that EPA waive the 180-day comment period. EPA is granting the registrants' request to waive the 180-day comment period and is providing a 30-day public comment period before taking action on the requested cancellations. Given the potential worker and ecological risk that ethyl parathion use poses, EPA anticipates granting the requested cancellations at the close of the comment period for this announcement. The specific cancellation requests are set forth below.

1. Requests for termination of use on corn grown for seed. In accordance with the MOA, Cheminova, Inc. has requested that its end-use products registrations be amended to immediately terminate the use of corn grown for seed. EPA anticipates granting the requested termination shortly after the end of the 30 day comment period for this notice. This use termination was requested for the end-use products identified in the following Table 1.

Table 1.—End Use Product Registration Deleting Use on Corn Grown for Seed
Company | Reg. No. | Product
Cheminova, Inc. | 67760-37 | Parathion 4EC
| 67760-38 | Parathion 8EC
| 67760-39 | Ethyl-Methyl Parathion 6-3 EC

2. Requests for voluntary cancellation of manufacturing use product registrations. Pursuant to the Agreement and FIFRA section 6(f)(1)(A), Cheminova, A/S, the only registrant with a manufacturing use product registration, has submitted a request for voluntary cancellation of registrations for all ethyl parathion manufacturing-use products. EPA anticipates granting the cancellation request shortly after the end of the 30 day comment period for this notice. The registrations for which cancellations were requested are identified in the following Table 2.

Table 2.—Manufacturing Use-Product Registration Cancellation Requests
Company | Reg. No. | Product
Cheminova, A/S | 4787-17 | Parathion Technical

3. Requests for voluntary cancellation of end-use product registrations. Several registrants have submitted requests for immediate voluntary cancellation of their registrations for end-use pesticide products containing ethyl parathion. The registrants who signed the MOA requested for cancellation of their ethyl parathion end-use product registrations effective as of December 31, 2002. EPA expects that end-use product registrations canceled by letter of voluntary cancellation are to be canceled shortly after the end of the 30-day comment period for this notice. The end-use registrations for which cancellation was requested by MOA or letter are identified in the following Table 3.

Table 3.—End-Use Product Registration Cancellation Requests
Company | Reg. No. | Product
Cheminova, Inc. | 67760-37 | Parathion 4EC
| 67760-38 | Parathion 8EC
| 67760-39 | Ethyl-Methyl Parathion 6-3 EC
Universal Cooperatives, Inc. | 1386-646 | Red Panther Parathion 8
Wilbur Ellis, Co. | 2935-481 | Parathion 4 Spray
| 2935-483 | Parathion 8 Aqua
Amvac, Chemical Co. | 5481-435 | Parathion 8
| 5481-436 | Parathion 4E
Helena Chemical | 5905-513 | Parathion 4E Emulsifiable Insecticide Concentrate
| 5905-514 | Parathion 8E Emulsifiable Insecticide Concentrate
| 5905-515 | Parathion — Methyl Parathion 6-3 Insecticide Concentrate
| 5905-516 | Helena Parathion 8 Flowable Insecticide Concentrate
Agriliance, LLC | 9779-322 | Parathion 8
Micro-Flo, Co. | 51036-180 | Micro Flo Co./Parathion 8E

III. Potential Actions Relative to Remaining End-Use Products Registrations

EPA is contemplating various enforcement and regulatory actions with respect to the remaining end-use product registrations after EPA grants the voluntary cancellation requests set forth in Unit II. of this Notice. These remaining registrations cite the manufacturing use product listed in Table 2 as the source of active ingredient in these products. Because EPA intends to limit the sale, distribution and use of the existing stocks of this source in the order canceling its registration, production of these remaining end-use products may be illegal under the cancellation order or the current registrations for these end-use products. Accordingly, EPA may initiate appropriate enforcement actions to ensure that the remaining end-use products are not being produced illegally after the source is canceled. As shown in the Agency's revised risk assessment dated September 1999, EPA is concerned with the risks associated with the use of pesticide products containing ethyl parathion. Because of these concerns, EPA is contemplating initiating a proceeding to cancel these remaining registrations. The remaining end-use product registrations that may be subject to enforcement and regulatory actions discussed in this Unit are identified in the following Table 4.

Table 4.—End-Use Product Registrations Potentially Subject to Involuntary Cancellation
Company | Reg. No. | Product
Drexel Chemical Co. | 19713-322 | Seis-Tres 6-3
| 19713-323 | Drexel Parathion 8
| 19713-324 | Ida Seis-Tres 6-3
| 19713-325 | Drexel Parathion 4EC

IV. What is the Agency's Authority for Taking this Action?

Section 6(f)(1) of FIFRA provides that a registrant of a pesticide product may at any time request that any of its pesticide registrations be canceled or amended to terminate one or more pesticide uses. FIFRA section 6(f)(1) further provides that, before acting on the request, EPA must publish a notice of receipt of any such request in the Federal Register, make reasonable efforts to inform persons who rely on the pesticide for minor agricultural uses, and provide a 30-day period in which the public may comment. Thereafter, the Administrator may approve such a request.

V. Procedures for Withdrawal of Request

Registrants may withdraw a request for cancellation only in conformance with the memoranda of agreement. Registrants must submit such withdrawal in writing to the person listed under FOR FURTHER INFORMATION CONTACT. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

VI. Proposed Existing Stocks Provision

Pursuant to section 6(f) of FIFRA, EPA intends to grant the requests for voluntary amendment and cancellation identified in Unit II. For purposes of the cancellation order that the Agency proposes to issue at the close of the comment period for this announcement, the term “existing stocks” will be defined, pursuant to EPA's existing stocks policy published in the Federal Register on June 26, 1991 at 56 FR 29362, as those stocks of a registered pesticide product which are currently in the United States and which have been packaged, labeled, and released for shipment prior to the effective date of the amendment or cancellation. Any distribution, sale, or use of existing stocks after the effective date of the cancellation order that the Agency intends to issue that is not consistent with the terms of that order will be considered a violation of section 12(a)(2)(K) and/or 12(a)(1)(A) of FIFRA.

A. Distribution, Sale and Use of End-Use Products Bearing Old Labeling Permitting Use on Corn Grown for Seed

In any cancellation order issued in response to registrants' request for registration amendment to terminate the use on corn grown for seed, EPA does not intend to prohibit the sale, distribution and use of the existing stocks of these products. Based on the registrants's assurance, EPA anticipates that most of these products will be relabeled to eliminate the canceled use.

B. Distribution, Sale and Use of Manufacturing-Use Products

EPA anticipates that any cancellation order issued in response to the registrants' request for voluntary cancellation of manufacturing-use product registrations would:

(1) Prohibit, as of the effective date of the cancellation order, all sale, distribution and use of existing stocks of manufacturing use products imported into the United States after July 7, 2000;

(2) Prohibit, as of the effective date of the cancellation order, all sale and distribution of ethyl parathion manufacturing use products imported into the United States prior to July 7, 2000 to pesticide registrants who have not executed the MOA or an agreement equivalent to the MOA, and prohibit use by such registrants, unless the sale, distribution or use is for the purpose of manufacturing a product intended solely for export consistent with the requirements of FIFRA Section 17; and

(3) Prohibit, as of December 31, 2002, all sale, distribution and use of existing stocks of manufacturing-use products imported prior to July 7, 2000, unless the sale or distribution is solely for purposes of export consistent with the requirements of section 17 of FIFRA, or for proper disposal.

C. Distribution, Sale and Use of End-Use Products

EPA anticipates that any cancellation order issued in response to the registrants' request for voluntary cancellation of end-use product registrations would:

(1) Prohibit, as of December 31, 2002, registrants from distributing or selling existing stocks of the end-use products;

(2) Prohibit, as of August 31, 2003, all sale and distribution of existing stocks of the end-use products; and

(3) Prohibit, as of October 31, 2003, all use of existing stocks of the end-use products.

VII. Future Tolerance Revocations

EPA anticipates drafting a future Federal Register notice proposing to separate the parathion tolerances for residues found in 40 CFR 180.121 into 180.121 for ethyl parathion and 180.122 for methyl parathion. This future notice will additionally propose revocation of tolerances on commodities on which there are no registered uses of either ethyl parathion or methyl parathion. With this present notice, EPA seeks comment as to whether any individuals or groups want to support continuation of these tolerances. For the nine crops on which ethyl parathion may be used until October 31, 2003, ethyl parathion tolerances will be revoked with an expiration date which will allow commodities with residues resulting from lawful applications to clear the channels of trade.

List of Subjects

Environmental protection, Pesticides and pests.

Dated: February 22, 2001.
Lois A. Rossi,
Director, Special Review and Reregistration Division, Office of Pesticide Programs.

[FR Doc. 01-10436 Filed 5-1-00; 8:45 am]

BILLING CODE 6560-50-S